NUCLEAR REGULATORY COMMISSION

[NRC-2018-0116]

Applications and Amendments to Facility Operating Licenses and Combined Licenses Involving Proposed No Significant Hazards Considerations and Containing Sensitive Unclassified Non-Safeguards Information and Order Imposing Procedures for Access to Sensitive Unclassified Non-Safeguards Information

Correction

In notice document 2018-12919, appearing on pages 31190-31197 in the Issue of Tuesday, July 3, 2018, make the following correction:

On page 31180, in the third column, under the heading “DATES:”, the entry “September 3, 2018” is corrected to read “September 4, 2018”.

[FR Doc. C1-2018-12919 Filed 7-9-18; 8:45 am]

BILLING CODE 1301-00-D